DEPARTMENT OF ENERGY

Federal Energy Regulatory Commission

[Project No. 2851-016]

Cellu Tissue Corporation; Notice of Application Accepted for Filing, Soliciting Motions To Intervene and Protests, Ready for Environmental Analysis, and Soliciting Comments, Recommendations, Preliminary Terms and Conditions, and Preliminary Fishway Prescriptions

July 15, 2010.

Take notice that the following hydroelectric application has been filed with the Commission and is available for public inspection.

a. Type of Application: New Minor License (<1.5 MW).

b. Project No.: 2851-016.

c. Date Filed: April 29, 2010.

d. Applicant: Cellu Tissue Corporation.

e. Name of Project: Natural Dam Hydroelectric Project.

f. Location: The existing project is located on the Oswegatchie River in the town of Gouverneur, St. Lawrence County, New York. The project does not affect federal lands.

g. Filed Pursuant to: Federal Power Act 16 U.S.C. 791(a)-825(r).

h. Applicant Contact: Chris Fiedler or Robin Gaumes, Cellu Tissue Corp., Natural Dam Mill, 4921 Route 58N, Gouverneur, NY 13642, (315) 287-7190.

i. FERC Contact: John Baummer telephone (202) 502-6837, and e-mail john.baummer@ferc.gov.

j. Deadline for filing motions to intervene and protests, comments, recommendations, preliminary terms and conditions, and preliminary fishway prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

k. This application has been accepted for filing and is now ready for environmental analysis.

l. The existing Natural Dam Hydroelectric Project consists of: (1) A 230-foot-long, 3-foot-high concrete dam with a 155-foot-long spillway section equipped with a 2.2-foot-high inflatable rubber crest gate with a deflated crest elevation of 394.0 feet National Geodetic Vertical Datum (NGVD), and a 72-foot-long gated section equipped with 7 steel bulkhead headgates; (2) a 180-foot-long auxiliary dam/spillway with a crest elevation of 397.3 feet NGVD; (3) a 570-acre impoundment with a normal water surface elevation of 396.0 feet NGVD; (4) a 152-foot-long headpond with headgates connected to a power flume along the right bank of the river; (5) a 570-foot-long bypassed reach; (6) a powerhouse containing three generating units with a total installed capacity of 1,020 kW; (7) transformers located in a transformer yard adjacent to the north wall of the Powerhouse; and (8) other appurtenances.

Cellu Tissue Corporation proposes to: (1) Operate the project in a run-of-river mode with a minimum impoundment elevation of 395.85 feet; (2) maintain a minimum bypass flow of 77 cubic feet per second (cfs) or inflow, whichever is less; (3) upgrade water level monitoring equipment for the impoundment; and (4) install equipment to allow for automatic pond level control.

A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item (h) above.

Register online at http://www.ferc.gov/docs-filing/esubscription.asp to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following Hydro Licensing Schedule. Revisions to the schedule may be made as appropriate.

Milestone | Target date
Filing of recommendations, preliminary terms and conditions, and preliminary fishway prescriptions | September 13, 2010.
Commission issue non-draft EA | January 11, 2011.
Comments on EA | February 10, 2011.
Modified terms and conditions | April 11, 2011.

p. Final amendments to the application must be filed with the Commission no later than 30 days from the issuance date of the notice of ready for environmental analysis.

q. A license applicant must file no later than 60 days following the date of issuance of the notice of acceptance and ready for environmental analysis provided for in § 5.22: (1) A copy of the water quality certification; (2) a copy of the request for certification, including proof of the date on which the certifying agency received the request; or (3) evidence of waiver of water quality certification.

Kimberly D. Bose,
Secretary.

[FR Doc. 2010-17886 Filed 7-21-10; 8:45 am]

BILLING CODE 6717-01-P